FEDERAL MINE SAFETY AND HEALTH REVIEW COMMISSION

Sunshine Act Notice

October 22, 2014.

TIME AND DATE: 10:00 a.m., Wednesday, October 29, 2014.

PLACE: The Richard V. Backley Hearing Room, Room 511N, 1331 Pennsylvania Avenue NW., Washington, DC 20004 (entry from F Street entrance).

STATUS: Open.

MATTERS TO BE CONSIDERED: The Commission will hear oral argument in the matter Secretary of Labor v. Black Beauty Coal Co., Docket Nos. LAKE 2008-378-R, et al. (Issues include whether the Administrative Law Judge erred in concluding that the resumption of mining in an area following a roof fall in that area constituted a violation and whether an on-shift examination of another area was required.)

Any person attending this oral argument who requires special accessibility features and/or auxiliary aids, such as sign language interpreters, must inform the Commission in advance of those needs. Subject to 29 CFR 2706.150(a)(3) and 2706.160(d).

CONTACT PERSON FOR MORE INFORMATION: Emogene Johnson (202) 434-9935/(202) 708-9300 for TDD Relay/1-800-877-8339 for toll free.

Emogene Johnson,
Administrative Assistant.

[FR Doc. 2014-25493 Filed 10-22-14; 4:15 pm]

BILLING CODE 6735-01-P